DEPARTMENT OF COMMERCE

Bureau of Export Administration

National Defense Stockpile Market Impact Committee Request for Public Comments

AGENCY: Office of Strategic Industries and Economic Security, Bureau of Export Administration, Department of Commerce.

ACTION: Notice of request for public comment on the potential market impact of proposed disposal of excess commodities currently held in the National Defense Stockpile.

SUMMARY: This notice is to advise the public that the National Defense Stockpile Market Impact Committee (co-chaired by the Departments of Commerce and State) is seeking public comment on the potential market impact of the Department of Defense proposed revisions to the disposal levels for Columbium Concentrates, Mica (All Forms), Palladium, Sebacic Acid, and Tantalum Minerals under the Fiscal Year 2000 and proposed Fiscal Year 2001 Annual Materials Plans (AMPs).

DATES: Comments must be received by April 24, 2000.

ADDRESSES: Written comments should be sent to Richard V. Meyers, Co-Chair, Stockpile Market Impact Committee, Office of Strategic Industries and Economic Security, Room 3876, U.S. Department of Commerce, 14th Street and Constitution Avenue, NW, Washington, D.C. 20230; FAX (202) 482-5650.

FOR FURTHER INFORMATION CONTACT: Richard V. Meyers, Office of Strategic Industries and Economic Security, U.S. Department of Commerce, (202) 482-3634; or Stephen H. Muller, Office of International Energy and Commodity Policy, U.S. Department of State, (202) 647-3423; co-chairs of the National Defense Stockpile Market Impact Committee.

SUPPLEMENTARY INFORMATION: Under the authority of the Strategic and Critical Materials Stock Piling Act of 1979, as amended, (50 U.S.C. 98 et seq.), the Department of Defense (DOD), as National Defense Stockpile Manager, maintains a stockpile of strategic and critical materials to supply the military, industrial, and essential civilian needs of the United States for national defense.

Section 3314 of the Fiscal Year (FY) 1993 National Defense Authorization Act (NDAA) (50 U.S.C. 98h7-1) formally established a Market Impact Committee (the Committee) to “advise the National Defense Stockpile Manager on the projected domestic and foreign economic effects of all acquisitions and disposal of materials from the stockpile * * * ”. The Committee must also balance market impact concerns with the statutory requirement to protect the Government against avoidable loss.

The Committee is comprised of representatives from the Departments of Commerce, State, Agriculture, Defense, Energy, Interior, Treasury, and the Federal Emergency Management Agency, and is co-chaired by the Departments of Commerce and State. The FY 1993 NDAA directs the Committee to “consult from time to time with representatives of producers, processors and consumers of the types of materials stored in the stockpile.”

The Committee is now considering the DOD proposed revisions to the disposal levels of Columbium Concentrates, Mica (All Forms), Palladium, Sebacic Acid, and Tantalum Minerals in the FY 2000 and proposed FY 2001 AMPs as set forth in Attachment 1 to this Notice. In order for the Committee to obtain sufficient information to prepare its recommendations to DOD on these proposed revisions, the Committee requests that interested parties provide comment on the potential market impact of the proposed revisions.

The quantities of each material listed in Attachment 1 are not sales target disposal quantities. They are only a statement of the proposed maximum disposal quantity of each listed material that may be sold in a particular fiscal year. The quantity of each material that will actually be offered for sale will depend on the market for the material at the time, as well as on the quantity of material approved for disposal by Congress.

The Committee requests that interested parties provide written comments, supporting data and documentation, and any other relevant information on the potential market impact of the sale of these commodities. Although comments in response to this Notice must be received by April 24, 2000, to ensure full consideration by the Committee, interested parties are encouraged to submit additional comments and supporting information at any time thereafter to keep the Committee informed as to the market impact of the sale of these commodities. Public comment is an important element of the Committee's market impact review process.

Public comments received will be made available at the Department of Commerce for public inspection and copying. Information that is national security classified or business confidential will be exempted from public disclosure. Anyone submitting business confidential information should clearly identify the business confidential portion of the submission and also provide a non-confidential submission that can be placed in the public file. Communications from agencies of the United States Government will not be made available for public inspection.

The public record concerning this notice will be maintained in the Bureau of Export Administration's Records Inspection Facility, Room 4525, U.S. Department of Commerce, 14th Street and Constitution Avenue, NW, Washington, D.C. 20230, telephone (202) 482-5653. The records in this facility may be inspected and copied in accordance with the regulations published in Part 4 of Title 15 of the Code of Federal Regulations (15 CFR 4.1 et seq.).

Information about the inspection and copying of records at the facility may be obtained from Ms. Margaret Cornejo, the Bureau of Export Administration's Freedom of Information Officer, at the above address and telephone number.

Dated: March 20, 2000.
R. Roger Majak,
Assistant Secretary for Export Administration.

Attachment

Proposed Revisions to FY 2000 and Proposed FY 2001 Annual Material Plans
Material | Units | Current FY 2000 and proposed FY 2001 quantity | Revised FY 2000 and proposed FY 2001 quantity
Columbium Concentrates | LB Cb | FY 2000, 200,000 FY 2001, 250,000 | 375,000
Mica (All Forms) | LB | 2,260,000 | 4,000,000
Palladium | TR Oz | 200,000 | 300,000
Sebacic Acid | LB | 400,000 | 600,000
Tantalum Minerals | LA Ta | 200,000 | 300,000

[FR Doc. 00-7249 Filed 3-22-00; 8:45 am]

BILLING CODE 3510-JT-P